DEPARTMENT OF ENERGY

Federal Energy Regulatory Commission

[Project 2342-011, Washington]

PacifiCorp; Notice of Incorporation of 1996 Condit Hydroelectric Project Final Environmental Impact Statement Into the Record of the Proceeding for Project No. 2342-011

January 30, 2002.

Take notice that the Condit Hydroelectric Project Final Environmental Impact Statement issued in the relicensing proceeding for Project No. 2342-005 on October 31, 1996, is incorporated into the record of the proceeding for Project No. 2342-011.

For further information, please contact Nicholas Jayjack at (202) 219-2825.

Linwood A. Watson, Jr.,
Acting Secretary.

[FR Doc. 02-2730 Filed 2-4-02; 8:45 am]

BILLING CODE 6717-01-P